DEPARTMENT OF TRANSPORTATION

Federal Railroad Administration

[Docket No. FRA-2024-0014]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before October 4, 2024.

ADDRESSES: Written comments and recommendations for the proposed ICR should be submitted on regulations.gov to the docket, Docket No. FRA-2024-0014. All comments received will be posted without change to the docket, including any personal information provided. Please refer to the assigned OMB control number (2130-0505) in any correspondence submitted. FRA will summarize comments received in a subsequent 30-day notice and include them in its information collection submission to OMB.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Inspection and Maintenance of Steam Locomotives.

OMB Control Number: 2130-0505.

Abstract: The Locomotive Inspection Act (LIA) establishes safety and inspection requirements for locomotives in “use” on a “railroad line.” ¹ The statute was first enacted in 1911 as part of a broad congressional effort to “reduce the loss of life and the injuries” caused by the dangerous conditions that prevailed on the railroads in the late 19th and early 20th centuries.² In 1911, Congress enacted the first iteration of the LIA to address the harms posed by locomotive boilers,³ making it “unlawful” for a common carrier “to use any locomotive engine propelled by steam power in moving interstate or foreign traffic unless the boiler of said locomotive and appurtenances thereof are in proper condition and safe to operate in the service to which the same is put.” ⁴ To help ensure the locomotive boilers and their appurtenances are in proper condition, the Steam Locomotive Inspection and Maintenance Standards require certain boiler pressure calculations and service-day inspections to be recorded and available to FRA.⁵

¹ 49 U.S.C. 20701 et seq.

² Johnson v. Southern Pac. Co., 196 U.S. 1, 19 (1904); see Napier v. Atlantic Coast Line R.R., 272 U.S. 605, 607-608 (1926).

³ Act of Feb. 17, 1911 (Act of 1911), ch. 103, 36 Stat. 913 (known as the Boiler Inspection Act).

⁴ Act of 1911, sec. 2, 36 Stat. 913-914.

⁵ 49 CFR part 230.

In this 60-day notice FRA has made adjustments that decreased the previously approved burden hours from 1,357 hours to 1,049 hours. The decrease in burden hours is the result of a more accurate analysis of the number of forms FRA F 1 and FRA F 3 that are required to be posted in the locomotive cab. Additionally, the burden hours being reported under 49 CFR 230.41 for the removal of flexible stay bolt caps on form FRA F 3 is already included in the average time of 30 minutes reported to complete each form. Therefore, the burden hours for this requirement have been removed.

Type of Request: Extension without change (with changes in estimates) of a currently approved collection.

Affected Public: Businesses.

Form(s): FRA F 1, FRA F 2, FRA F 3, FRA F 4, FRA F 5, and FRA F 19.

Respondent Universe: 82 steam locomotive owners/operators.

Frequency of Submission: On occasion; annually.

Reporting Burden
CFR part 230 section/FRA form name and number | Respondent universe | Annual responses | Average time per response (hours) | Total annual burden hours | Wage rate | Total cost equivalent U.S.D.
|  | (A) | (B) | (A * B = C) | (D) ⁶ | (E = C * D)
FRA F 1:
31 and 92 Service Day Inspection Report | 82 steam owners operators | 480 | 0.33 | 160.00 | 89.13 | $14,260.80
FRA F 2:
Daily Locomotive Inspection Report | 82 steam owners operators | 3,650 | 0.17 | 608.33 | 89.13 | 54,220.45
FRA F 3:
Annual Inspection Report | 82 steam owners operators | 115 | 0.5 | 57.50 | 89.13 | 5,124.98
FRA F 4:
Boiler Specification Card | 82 steam owners operators | 12 | 0.5 | 6.00 | 89.13 | 534.78
FRA F 5:
Locomotive Service Day Report | 82 steam owners operators | 150 | 0.25 | 37.50 | 89.13 | 3,342.38
FRA F 19:
Report of Alteration or Welded or Riveted Repair | 82 steam owners/operators | 10 | 1 | 10.00 | 89.13 | 891.30
Forms Subtotal |  | 4,417 |  | 879.33 |  | 78,374.68
230.6—Waivers:
(a)—Waivers |  | 1 | 1.00 | 1.00 | 89.13 | 89.13
230.12—Movement of non-complying steam locomotives:
(b)—Conditions for movement (tagging) | 82 steam owners/ operators | 10 | 0.10 | 1.00 | 69.60 | 69.60
230.14—Thirty-one (31) service day inspection:
(b)—FRA notification of 31 service day inspection | 82 steam owners/operators | 360 | 0.08 | 30.00 | 89.13 | 2,673.90
230.16—Annual inspection:
(b)—FRA notification of annual inspection | 82 steam owners/operators | 120 | 0.08 | 10.00 | 89.13 | 891.30
230.19—Posting of FRA Form No. 1 and FRA Form No. 3:
(a) and (b)—Posting of forms | 82 steam owners/operators | 662 | 0.08 | 52.96 | 89.13 | 4,720.32
230.21—Steam locomotive number change:
—Number change | 82 steam owners/operators | 1 | 0.03 | 0.03 | 89.13 | 2.67
230.22—Accident reports:
The burden hours associated with this requirement are included OMB Control No. 2130-0500. Consequently, there is no additional burden associated with this requirement.
230.33—Welded repairs and alterations:
(a)—Written requests to FRA | 82 steam owners/operators | 8 | 2.00 | 16.00 | 89.13 | 1,426.08
230.34—Riveted repairs and alterations:
(a)—Written requests | 82 steam owners/operators | 2 | 2.00 | 4.00 | 89.13 | 356.52
230.46—Badge plates:
—Attaching of metal badge plate | 82 steam owners/operators | 3 | 2.00 | 6.00 | 69.60 | 417.60
230.47—Boiler number:
(a)—Stamped boiler number | 82 steam owners/operators | 1 | 1.00 | 1.00 | 69.60 | 69.60
230.49—Setting of safety relief valves:
(d)—Labeling of lowest set pressure |  | 5 | 1.00 | 5.00 | 69.60 | 348.00
230.60—Time of washing:
The burden for this requirement is included above in the burden listed under §§ 230.15 and 230.16. Consequently, there is no additional burden associated with this requirement.
230.75—Stenciling dates of tests and cleaning:
—Stenciling | 82 steam owners/operators | 50 | 0.50 | 25.00 | 69.60 | 1,740.00
230.96—Main, side, and valve motion rods:
(b)—Written request for repairs | 82 steam owners/operators | 1 | 2.00 | 2.00 | 89.13 | 178.26
230.98 Driving, trailing, and engine truck axles:
(b)—Journal diameter stamped | 82 steam owners/operators | 1 | 0.25 | 0.25 | 69.60 | 17.40
230.116—Oil tanks:
—Marking of hand operated locations | 82 steam owners/operators | 30 | 0.50 | 15.00 | 69.60 | 1,044.00
Subtotal |  | 1,255 |  | 169.24 |  | 14,044.39
Total⁷ | 82 steam owners/operators | 5,672 | N/A | 1,049 | N/A | 92,419

Total Estimated Annual Responses: 5,672.

⁶ The dollar equivalent cost is derived from the 2023 Surface Transportation Board Full Year Wage A&B data series using the employee group 200 (Professional & Administrative) hourly wage rate of $50.93 and group 400 (Maintenance of Equipment & Stores) hourly wage rate of $39.77. The total burden wage rate (Straight time plus 75%) used in the table is $89.13 ($50.93 × 1.75 = $89.13), and $69.60 ($39.77 × 1.75 = $69.60).

⁷ Totals may not add up due to rounding.

Total Estimated Annual Burden: 1,049 hours.

Total Estimated Annual Burden Hour Dollar Cost Equivalent: $92,419.

FRA informs all interested parties that it may not conduct or sponsor, and a respondent is not required to respond to, a collection of information that does not display a currently valid OMB control number.

Authority: 44 U.S.C. 3501-3520.

Christopher S. Van Nostrand,
Deputy Chief Counsel.

[FR Doc. 2024-17186 Filed 8-2-24; 8:45 am]

BILLING CODE 4910-06-P